ENVIRONMENTAL PROTECTION AGENCY

[EPA-R08-SFUND-2024-0441; FRL-12262-01-R8]

Proposed CERCLA Administrative Settlement Agreement by America West Investments, LLC and Tooele City Corporation, Broadway Hotel Site, Tooele, Utah

AGENCY: Environmental Protection Agency (EPA).

ACTION: Notice of proposed settlement; request for public comment.

SUMMARY: Notice is hereby given by the U.S. Environmental Protection Agency (EPA), Region 8, of a prospective purchaser and ability to pay agreement entered into voluntarily by the United States of America (“United States”) on behalf of the United States Environmental Protection Agency (“EPA”), America West Investments, LLC (“Settling Party”) and Tooele City Corporation (“Purchaser”) in connection with the Broadway Hotel Superfund Site in Tooele, Tooele County, Utah (“Site”). It is now subject to public comment, after which EPA may modify or withdraw its consent if comments received disclose facts or considerations that indicate that the proposed agreement is inappropriate, improper, or inadequate.

DATES: Comments must be submitted on or before December 4, 2024.

ADDRESSES: The proposed agreement and additional background information relating to the agreement will be available upon request. Any comments or requests or for a copy of the proposed agreement should be addressed to Crystal Kotowski-Edmunds, Enforcement Specialist, Superfund and Emergency Management Division, Environmental Protection Agency, Region 8, Mail Code 8SEM-PAC, 1595 Wynkoop Street, Denver, Colorado 80202, telephone number: (303) 312-6124, email address: edmunds.crystal@epa.gov, and should reference the Broadway Hotel Site. You may also send comments, identified by Docket ID No. EPA-R08-SFUND-2024-0441, to https://www.regulations.gov. Follow the online instructions for submitting comments.

FOR FURTHER INFORMATION CONTACT: Paige Lambert-Wright, Attorney, Office of Regional Counsel, Environmental Protection Agency, Region 8, Mail Code 8ORC-LEC, 1595 Wynkoop, Denver, Colorado 80202, telephone number: (303) 312-6762, email address: wright.paige@epa.gov.

SUPPLEMENTARY INFORMATION: The proposed settlement will resolve the liability of America West Investments, LLC (“Settling Party”), the potentially responsible party (“PRP”) at the Site, and facilitate the transfer of Settling Party's property to prospective purchaser Tooele City Corporation (Purchaser) for redevelopment.

Settling Party will sell its property (seven parcels, totaling approximately 1.3 acres) (Property) to Purchaser for $300,000. This amount was determined to be the fair market value of the Property in an appraisal dated June 5, 2024, conducted by a qualified appraiser certified to meet the Uniform Standards of Professional Appraisal Practice. Settling Party will pay the EPA 100% of the Net Sales Proceeds of the sale. Net Sales Proceeds is defined in the proposed settlement agreement to exclude reasonable closing costs, broker's fees, and State or local taxes paid regarding the sale. Additionally, the definition of Net Sales Proceeds incorporates an exclusion for a sum certain value of $20,000, as part of the resolution of United States v. Daniel J. Brett, Case No. 2:24-cr-00037 (D. Utah).

Purchaser will acquire the Property and comply with property requirements including release reporting, providing cooperation and access, exercising appropriate care with respect to hazardous substances, and providing notice to successors-in-title. Purchaser will make a one-time payment to the EPA in the amount of $30,000 and has also agreed to redevelop the Property for the public interest.

This proposed settlement will resolve Settling Party's liability under sections 106 and 107(a) of CERCLA, 42 U.S.C. 9606 and 9607(a), for the Site. The EPA will provide covenants not to sue or take administrative action against Settling Party, contingent on compliance with the agreement and subject to the standard reservations. The EPA will also provide Settling Party contribution protection pursuant to CERCLA section 113(f)(2) and 122(h)(4).

The EPA will provide covenants not to sue or take administrative action under CERCLA sections 106 and 107(a) against Purchaser for Existing Contamination, contingent on compliance with the agreement and subject to the standard reservations. The EPA will also provide Purchaser contribution protection pursuant to CERCLA sections 113(f)(2) and 122(h)(4).

For thirty (30) days following the date of publication of this document, EPA will receive electronic comments relating to the proposed agreement. EPA's response to any comments received will be available for public inspection by request. Please see the ADDRESSES section of this document for instructions.

Aaron Urdiales,
Division Director, Superfund and Emergency Management Division, Region 8.

[FR Doc. 2024-25563 Filed 11-1-24; 8:45 am]

BILLING CODE 6560-50-P